DEPARTMENT OF COMMERCE

National Oceanic and Atmospheric Administration

RIN 0648-XY93

Marine Mammals; File No. 15654

AGENCY: National Marine Fisheries Service (NMFS), National Oceanic and Atmospheric Administration (NOAA), Commerce.

ACTION: Notice; issuance of permit.

SUMMARY: Notice is hereby given that George Church, PhD, Professor of Genetics, Harvard Medical School, 77 Avenue Louis Pasteur, Boston, MA 02115, has been issued a permit to conduct research on bowhead whale (Balaena mysticetus) parts.

ADDRESSES: The permit and related documents are available for review upon written request or by appointment in the following office:

Permits, Conservation and Education Division, Office of Protected Resources, NMFS, 1315 East-West Highway, Room 13705, Silver Spring, MD 20910; phone (301) 713-2289; fax (301) 713-0376; and

Northeast Region, NMFS, 55 Great Republic Drive, Gloucester, MA 01930; phone (978) 281-9328; fax (978) 281-9394.

FOR FURTHER INFORMATION CONTACT: Laura Morse or Amy Sloan, (301) 713-2289.

SUPPLEMENTARY INFORMATION: On September 14, 2010 a notice was published in the Federal Register (75 FR 55738) that a request for a permit to conduct research on the species identified above had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Dr. Church is authorized to receive, analyze and archive parts of bowhead whales. Parts will be received from a permitted laboratory (Permit No. 1008-1637-02 issued to John Wise, PhD) and maintained at Harvard University for the proposed study. Cell lines will be developed to sequence the DNA (genome) and RNA (transcriptome). The permit has been issued for a five-year period.

In compliance with the National Environmental Policy Act of 1969 (42 U.S.C. 4321 et seq.), an initial determination has been made that the activity proposed is categorically excluded from the requirement to prepare an environmental assessment or environmental impact statement.

Dated: January 24, 2011.
P. Michael Payne,
Chief, Permits, Conservation and Education Division, Office of Protected Resources, National Marine Fisheries Service.

[FR Doc. 2011-2532 Filed 2-3-11; 8:45 am]

BILLING CODE 3510-22-P